ENVIRONMENTAL PROTECTION AGENCY

[OPP-2002-0135; FRL-7197-1]

Notice of Receipt of Request To Voluntarily Cancel Certain Pesticide Registrations for Disulfoton

AGENCY: Environmental Protection Agency (EPA).

ACTION: Notice.

SUMMARY: In accordance with section 6(f)(1) of the Federal Insecticide, Fungicide and Rodenticide Act (FIFRA), as amended, EPA is issuing a notice of receipt of a request by a registrant to voluntarily cancel certain pesticide registrations for disulfoton, or O,O-diethyl S-[2-(ethylthio)ethyl]phosphorodithioate. The registrant has elected to voluntarily cancel certain disulfoton products rather than develop the data necessary to evaluate the human health risks associated with these products.

DATES: Unless EPA receives comments within the public comment period that would merit the Agency's further review of this request, EPA will issue an order canceling all of these registrations effective December 31, 2003. EPA is accepting comments on this Notice until October 7, 2002.

ADDRESSES: Comments may be submitted by mail, electronically, or in person. Please follow the detailed instructions for each method as provided in Unit I. of the SUPPLEMENTARY INFORMATION. To ensure proper receipt by EPA, it is imperative that you identify docket control number OPP-2002-0135 in the subject line on the first page of your response.

FOR FURTHER INFORMATION CONTACT: Christina Scheltema, Special Review and Reregistration Division (7508C), Office of Pesticide Programs, Environmental Protection Agency, 1200 Pennsylvania Ave., NW., Washington, DC 20460; telephone number: (703) 308-2201; fax number: (703) 308-8005; e-mail address: scheltema.christina@epa.gov.

SUPPLEMENTARY INFORMATION:

I. General Information

A. Does This Action Apply to Me?

This action is directed to the public in general. You may be affected by this action if you manufacture, sell, distribute, or use disulfoton products. Since other entities may also be interested, the Agency has not attempted to describe all the specific entities that may be affected by this action. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register--Environmental Documents.” You can also go directly to the Federal Register listings at http://www.epa.gov/fedrgstr/.

2. In person. The Agency has established an official record for this action under docket control number OPP-2002-0135. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-2002-0135 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-2002-0135. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Background

A. What Action Is the Agency Taking?

EPA has received a request from Adams Technology, the authorized agent for the registrant, Easy Gardener Inc., to cancel four pesticide products containing the active ingredient O,O-diethyl S-[2-(ethylthio)ethyl]phosphorodithioate (disulfoton) registered under section 3 of FIFRA effective as of December 31, 2003. EPA completed an Interim Reregistration Eligibility Decision (IRED) for disulfoton on March 30, 2002, and issued the IRED document on July 17, 2002. As part of the reregistration process, Easy Gardener Inc. has elected to voluntarily cancel certain disulfoton products rather than develop the data necessary to support reregistration. The registrations with pending requests for voluntary cancellation are listed in the following table.

Table 1.—Disulfoton Registrations with Pending Requests for Cancellation
EPA Registration No. | Product Name
46260-2 | Jobe's Spikes Systemic Insecticide with Fertilizer for Roses
46260-12 | Jobe's Spikes Systemic Insecticide with Fertilizer for Beautiful Trees
46260-35 | Jobe's Spikes Systemic Insecticide with Fertilizer for Houseplants
46260-36 | Ross Systemic Root Feeder Cartridge

FIFRA section 6(f)(1)(B) requires that EPA provide a 30-day comment period in which the public may comment before the Agency may act on the request for voluntary cancellation. EPA intends to grant the request for voluntary cancellation, unless during the comment period EPA receives substantive comments that would merit the Agency's further review of this request. For purposes of the cancellation order that the Agency intends to issue at the close of the comment period for this notice, EPA intends to include certain provisions governing the sale, distribution and use of existing stocks. The term “existing stocks” as defined in EPA's existing stocks policy in the Federal Register of June 26, 1991 (56 FR 29362) (FRL-3846-4), means those stocks of a registered pesticide product which are currently in the United States and which have been packaged, labeled, and released for shipment prior to the effective date of the cancellation. EPA intends to permit sale and distribution of the existing stocks by the registrant until December 31, 2004, and by persons other than the registrant until the existing stocks are exhausted. EPA also intends to permit use of existing stocks until they are exhausted, provided that such further use is in accordance with the EPA-approved label and labeling of the affected product.

B. What is the Agency's Authority for Taking this Action?

Section 6(f)(1) of FIFRA provides that a registrant of a pesticide product may at any time request voluntary cancellation of any of its pesticide registrations. The Act further provides that, before acting on the request, EPA must publish a notice of receipt of any such request in the Federal Register. Thereafter, the EPA Administrator may approve such a request.

List of Subjects

Environmental protection, Disulfoton, Pesticides, Reregistration, Voluntary cancellation.

Dated: August 28, 2002.
Susan Lewis,
Acting Director, Special Review and Reregistration Division, Office of Pesticide Programs.

[FR Doc. 02-22729 Filed 9-5-02; 8:45 am]

BILLING CODE 6560-50-S